DEPARTMENT OF COMMERCE

International Trade Administration

[A-570-836]

Glycine From the People's Republic of China; Extension of Time Limit for Preliminary Results of Antidumping Duty Administrative Review

AGENCY: Import Administration, International Trade Administration, Department of Commerce.

DATES: Effective Date: November 23, 2011.

FOR FURTHER INFORMATION CONTACT: Edythe Artman or Angelica Mendoza, AD/CVD Operations, Office 7, Import Administration, International Trade Administration, U.S. Department of Commerce, 14th Street and Constitution Avenue NW., Washington, DC 20230; telephone: (202) 482-3931 or (202) 482-3019, respectively.

SUPPLEMENTARY INFORMATION:

Background

On April, 27, 2011, the Department of Commerce (the Department) published the initiation of the administrative review of the antidumping duty order on glycine from the People's Republic of China (PRC) in the Federal Register. See Initiation of Antidumping and Countervailing Duty Administrative Reviews, 76 FR 23545 (April 27, 2011). The review covers the period of March 1, 2010, to February 28, 2011. The current deadline for the preliminary results of review is December 1, 2011.

Extension of Time Limit for Preliminary Results of Review

Section 751(a)(3)(A) of the Tariff Act of 1930, as amended (the Act), requires that the Department complete the preliminary results of an administrative review within 245 days after the last day of the anniversary month of an order for which a review is requested. However, if it is not practicable to complete the review within this time period, section 751(a)(3)(A) of the Act allows the Department to extend the 245 day time period for the preliminary results to 365 days.

The Department finds that it is not practicable to complete the preliminary results of this review within the original time frame because it needs to obtain additional information from the respondent company, Baoding Mantong Fine Chemistry, Co., Ltd., in order to complete its analysis. Because the Department requires additional time to obtain and analyze this information, it is not practicable to complete this review by the current deadline of December 1, 2011. Accordingly, the Department is extending the time limit for completion of the preliminary results of this administrative review until no later than March 30, 2012, which is 365 days from the last day of the anniversary month of this order. We intend to issue the final results no later than 120 days after publication of the preliminary results notice.

This extension is issued and published in accordance with sections 751(a)(3)(A) and 777(i) of the Act.

Dated: November 9, 2011.
Christian Marsh,
Deputy Assistant Secretary for Antidumping and Countervailing Duty Operations.

[FR Doc. 2011-30005 Filed 11-22-11; 8:45 am]

BILLING CODE 3510-DS-M